FEDERAL COMMUNICATIONS COMMISSION

[Report No. 2449]

Petitions for Reconsideration and Clarification of Action in Rulemaking Proceedings

Correction

In notice document 00-28614 appearing on page 67009 in the issue of Wednesday, November 8, 2000, make the following correction:

On page 67009, in the second column, in the fifth line from the bottom, “November 14, 2000” should read “November 24, 2000”.

[FR Doc. C0-28614 Filed 11-16-00; 8:45 am]

BILLING CODE 1505-01-D

DEPARTMENT OF LABOR

Pension and Welfare Benefits Administration

29 CFR Part 2510

RIN 1210-AA48

Plans Established or Maintained Under or Pursuant to Collective Bargaining Agreements Under Section 3(40)(A) of ERISA

Correction

In proposed rule document 00-27044 beginning on page 64482 in the issue of Friday, October 27, 2000, make the following correction:

§2510.3-40 [Corrected]

On page 64498, in the second column in paragraph (h) in the second line, “December 26, 2000” should read “[60 days from the date of publication in the Federal Register as a final regulation]”.

[FR Doc. C0-27044 Filed 11-16-00; 8:45 am]

BILLING CODE 1505-01-D